DEPARTMENT OF DEFENSE

Department of the Army, Corps of Engineers

Notice of Solicitation of Applications for Stakeholder Representative Members of the Committee on Levee Safety

AGENCY: U.S. Army Corps of Engineers, DoD.

ACTION: Notice; extension of application period.

SUMMARY: On January 21, 2022, the U.S. Army Corps of Engineers posted a notice in the Federal Register soliciting applications to fill non-federal member positions for the Committee on Levee Safety (Committee). The Committee is being formed to advise the U.S. Army Corps of Engineers and the Federal Emergency Management Agency on various aspects of developing the National Levee Safety Program. The Committee will be comprised of 14 voting members from state, local, regional, and tribal governments, as well as the private sector. In that notice, the Corps stated that applications must be submitted on or before March 22, 2022. The Corps has decided to extend the application period by 45 days.

DATES: Applications must be submitted on or before May 6, 2022.

ADDRESSES: Interested persons may apply by submitting the required information to any of the following:

Email: hq-leveesafety@usace.army.mil and include “Committee on Levee Safety” in the subject line of the message.

Mail: U.S. Army Corps of Engineers, Vicksburg District, ATTN: Levee Safety Center—RM 221, 4155 East Clay Street, Vicksburg, MS 39183.

Hand Delivery/Courier: Due to security requirements, we cannot receive applications by hand delivery or courier.

FOR FURTHER INFORMATION CONTACT: Ms. Tammy Conforti, 202-365-6586, email hq-leveesafety@usace.army.mil or visit www.leveesafety.org.

SUPPLEMENTARY INFORMATION: Please see the notice published in the January 21, 2022, issue of the Federal Register (87 FR 3286) for expectations for Committee members and the process for applying for membership on the Committee.

Pete G. Perez,
Chief, Engineering and Construction, Directorate of Civil Works.

[FR Doc. 2022-06032 Filed 3-21-22; 8:45 am]

BILLING CODE 3720-58-P